DEPARTMENT OF COMMERCE

National Institute of Standards and Technology

Notice of a Public Meeting of the National Conference on Weights and Measures, Steering Committee on Automatic Temperature Compensation

AGENCY: National Institute of Standards and Technology, Commerce.

ACTION: Notice of a Public Meeting of the National Conference on Weights and Measures Steering Committee on Temperature Compensation, August 2007.

SUMMARY: A meeting of the National Conference on Weights and Measures (NCWM) Steering Committee on Automatic Temperature Compensation (ATC) will be held August 27, 2007, beginning at 1 p.m. in Chicago, Illinois, and will end at noon on August 29, 2007.

The ATC meeting is open to the public; however, advance registration with the NCWM is required. The NCWM is an organization of state, county, and city weights and measures officials and includes representatives of business, federal agencies, and members of the private sector which come together to develop standards related to weights and measures technology, administration, and enforcement. Pursuant to 15 U.S.C. 272(b)(6), the Weights and Measures Division of the National Institute of Standards and Technology (NIST) supports the NCWM as one of the forums it uses to solicit comments and recommendations on revising or updating a variety of publications related to legal metrology. NIST promotes uniformity among the states in laws, regulations, methods of sale, and testing equipment that comprise the regulatory control of commercial weighing and measuring devices and other practices used in trade and commerce. Publication of this notice on the NCWM's behalf is undertaken as a public service; NIST does not endorse, approve, or recommend any of the proposals contained in this notice or in NCWM publications.

DATES: August 27, 2007, to August 29, 2007.

Meeting Location: This meeting will be convened at the Sofitel Chicago O'Hare, 5550 North River Road, Rosemont, Illinois 60018, telephone: 847-678-4488; e-mail: 0894@accor.com. Please contact the NCWM at its URL at http://www.ncwm.net to obtain registration form and hotel accommodation information.

SUPPLEMENTARY INFORMATION: Topics related to Automatic Temperature Compensation for Refined Petroleum Products and Other Fuels will be discussed at this meeting and includes:

1. Establishing Standardized Product Densities,

2. Establish Specifications for Temperature Probes Used by Inspectors,

3. Response Time of Thermometer Wells,

4. Referencing 15 °C vs 60 °F,

5. Temperature Uncertainties Related to the 19-Liter (5-Gallon) Test Draft,

6. Implementation: “Permissive” or “Mandatory,”

7. Labeling/Signage/Receipts,

8. Tax Data,

9. Temperature Data, and

10. NCWM National Type Evaluation Program Checklist.

FOR FURTHER INFORMATION CONTACT: Carol Hockert, Chief, NIST, Weights and Measures Division, 100 Bureau Drive, Stop 2600, Gaithersburg, MD 20899-2600, at 301-975-5507, e-mail Carol.Hockert@nist.gov, or the NCWM contact Don Onwiler, Chairman, ATC Steering Committee, National Conference on Weights and Measures, 15245 Shady Grove Road, Suite 130, Rockville, Maryland 20850-3222, at 402-471-4292, e-mail ncwm@mgmtsol.com. Additional NCWM contact numbers are: 240-404-6473 (Direct) and 240-632-9454 (Main).

Dated: August 9, 2007.
William Jeffrey,
Director.

[FR Doc. E7-15903 Filed 8-13-07; 8:45 am]

BILLING CODE 3510-13-P